DEPARTMENT OF AGRICULTURE

National Agricultural Statistics Service

Notice of the Advisory Committee on Agriculture Statistics Meeting

AGENCY: National Agricultural Statistics Service, USDA.

ACTION: Notice of meeting.

SUMMARY: In accordance with the Federal Advisory Committee Act, the National Agricultural Statistics Service (NASS) announces a meeting of the Advisory Committee on Agriculture Statistics.

DATES: The Committee meeting will be held from 1 p.m. to 4:30 p.m. on Tuesday, February 14, 2006, and from 8 a.m. to 4:30 p.m. on Wednesday, February 15, 2006. There will be an opportunity for public questions and comments at 3:30 p.m. on February 15, 2006.

ADDRESSES: The Committee meeting will take place at the Crystal Gateway Marriott Hotel, 1700 Jefferson Davis Highway, Arlington, Virginia, 22202. Written comments may be filed before or within a reasonable time after the meeting with the contact person identified herein at: U.S. Department of Agriculture, National Agricultural Statistics Service, 1400 Independence Avenue, SW., Room 5041A, South Building, Washington, DC 20250-2000.

FOR FURTHER INFORMATION CONTACT: Joe Reilly, Executive Director, Advisory Committee on Agriculture Statistics, Telephone: 202-720-4333, Fax: 202-720-9013, or e-mail: jreilly@nass.usda.gov.

SUPPLEMENTARY INFORMATION: The Advisory Committee on Agriculture Statistics, which consists of 25 members appointed from 7 categories covering a broad range of agricultural disciplines and interests, has scheduled a meeting on February 14-15, 2006. During this time the Advisory Committee will discuss topics including Small and Minority Farm coverage in the 2007 Census of Agriculture, the needs for the 2007 Census of Agriculture follow-on surveys, and Improving Respondent Relations and Reducing Reporting Burden Publications.

The Committee meeting is open to the public. The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Dated February 2, 2006, at Washington, DC.
R. Ronald Bosecker,
Administrator, National Agricultural Statistics Service.

[FR Doc. E6-1878 Filed 2-9-06; 8:45 am]

BILLING CODE 3410-20-P